NUCLEAR REGULATORY COMMISSION

Sunshine Act Meeting

AGENCY: Nuclear Regulatory Commission.

DATE: Weeks of January 27, February 3, 10, 17, 24, March 3, 2003.

Place: Commissioners' Conference Room, 11555 Rockville Pike, Rockville, Maryland.

Status: Public and closed.

Matters to be Considered:

Week of January 27, 2003

There are no meetings scheduled for the Week of January 27, 2003.

Week of February 3, 2003—Tentative

Tuesday, February 4, 2003

2 p.m.—Briefing on Lessons Learned: Davis-Besse Reactor Vessel Head (RVH) Degradation (Public Meeting) (Contact: Stacey Rosenberg, 301-415-1733)

This meeting will be webcast live at the Web address— www.nrc.gov

Wednesday, February 5, 2003

1 p.m.—Discussion of Governmental Issues (Closed—Ex. 1 & 9)

Week of February 10, 2003—Tentative

Monday, February 20, 2003

10 a.m.—Briefing on Status of Office of Nuclear Reactor Regulation (NRR) Programs, Performance, and Plans (Public Meeting) (Contract: Michael Case, 301-415-1275)

The meeting will be webcast live at the Web address— www.nrc.gov

Tuesday, February 11, 2003

10 a.m.—Briefing on Status of Office of the Chief Financial Officer (OCFO) Programs, Performance, and Plans (Public meeting) (Contact: Patrice Williams-Johnson, 301-415-5732)

This meeting will be webcast live at the Web address— www.nrc.gov.

Week of February 17, 2003—Tentative

There are no meetings scheduled for the Week of February 17, 2003.

Week of February 24, 2003—Tentative

Monday, February 24, 2003

2 p.m.—Meeting with National Association of Regulatory Utility Commissioners (NARUC) (Public Meeting)

This meeting will be webcast live at the Web address— www.nrc.gov

Week of March 3, 2003

Monday, March 3, 2003

10 a.m.—Briefing on Status of Office of Nuclear Material Safety and Safeguards (NMSS) Programs—Waste Safety (Public Meeting) (Contact: Claudia Seelig, 301-415-7243)

This meeting will be webcast live at the Web address— www.nrc.gov

*The schedule for Commission meetings is subject to change on short notice. To verify the status of meetings call (recording)—(301) 415-1292. Contact person for more information: David Louis Gamberoni (301) 415-1651.

Additional Information

“Briefing on Status of Office of the Chief Information Officer (OCIO) Programs, Performance, and Plans,” originally scheduled for February 4, 2003, has been canceled.

By a vote of 5-0 on January 22, the Commission determined pursuant to U.S.C. 552b(e) and § 9.107(a) of the Commission's rules that “Affirmation of Pacific Gas & Electric Co. (Diablo Canyon Power Plant Independent Spent Fuel Storage Installation); Licensing Board's referral in LBP-02-23 of its denial to admit terrorism contentions/issues” be held on January 23, and on less than one week's notice to the public.

The NRC Commission Meeting Schedule can be found on the Internet at: www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 23, 2003.
David Louis Gamberoni,
Technical Coordinator, Office of the Secretary.

[FR Doc. 03-2040 Filed 1-24-03; 2:00 pm]

BILLING CODE 7590-01-M